DEPARTMENT OF AGRICULTURE

Animal and Plant Health Inspection Service

7 CFR Part 319

[Docket No. APHIS-2012-0038]

RIN 0579-AD79

Importation of Cape Gooseberry From Colombia Into the United States; Technical Amendment

AGENCY: Animal and Plant Health Inspection Service, USDA.

ACTION: Final rule; technical amendment.

SUMMARY: In a final rule published in the Federal Register on May 2, 2014, and effective on June 2, 2014, we amended the fruits and vegetables regulations to allow the importation of cape gooseberry from Colombia into the United States under a systems approach. The final rule stated that capture of a Mediterranean fruit fly in a registered place of production would result in immediate cancellation of exports from farms within 5 square kilometers of the detection site. Our intent, however, was to specify that a Medfly detection would result in immediate cancellation of exports from farms within a 5 kilometer radius, rather than an area of 5 square kilometers. This document amends the regulations to reflect our intent.

DATES: Effective Date: October 1, 2014.

FOR FURTHER INFORMATION CONTACT: Ms. Claudia Ferguson, Senior Regulatory Policy Specialist, Regulatory Coordination and Compliance, PPQ, APHIS, 4700 River Road Unit 133, Riverdale, MD 20737-1236; (301) 851-2352.

SUPPLEMENTARY INFORMATION: In a final rule ¹ that was published in the Federal Register on May 2, 2014 (79 FR 24995-24997, Docket No. APHIS-2012-0038), and effective on June 2, 2014, we amended the fruits and vegetables regulations to add a section, § 319.56-67, that allows the importation of cape gooseberry (Physalis peruviana) from Colombia into the United States under a systems approach.

¹ To view the rule, supporting analyses, and comments we received, go to http://www.regulations.gov/#!docketDetail;D=APHIS-2012-0038.

One of the provisions of the systems approach, found in paragraph (b)(1) of § 319.56-67, required the cape gooseberry to be produced in places of production that are registered with the national plant protection organization (NPPO) of Colombia. Another, found in paragraph (c)(1) of § 319.56-67, required trapping for Mediterranean fruit fly (Medfly, Ceratitis capitata) at registered places of production. Finally, paragraph (c)(2) of § 319.56-67 specified that capture of Medfly at a registered place of production would result in immediate cancellation of exports from farms within 5 square kilometers of the detection site, and required an additional 50 traps to be placed in the 5 square kilometer area surrounding the detection site.

Our intent was to prohibit exports from farms within a 5 kilometer radius (78.54 square kilometers) of a detection site, rather than 5 square kilometers. Cancelling exports from within 5 square kilometers of the detection site, however, would prohibit exports only from within a 1.26 kilometer radius of the detection site.

The additional trapping would have to occur in this 5 square kilometers area surrounding the detection site. In other words, our intent was to specify that additional trapping would have to occur in an area circumscribed by a larger area from which exports would be prohibited. Due to drafting errors, however, neither the rule nor its supporting documents reflected this intent.

Accordingly, we are amending paragraph (c)(2) of § 319.56-67 to specify that capture of Medfly at a registered place of production will result in immediate cancellation of exports from farms within a 5 kilometer radius (78.54 square kilometers) of the detection site, and to specify that an additional 50 traps must be placed within an area with a 1.26 kilometer radius (5 square kilometers) surrounding the detection site.

List of Subjects in 7 CFR Part 319

Coffee, Cotton, Fruits, Imports, Logs, Nursery stock, Plant diseases and pests, Quarantine, Reporting and recordkeeping requirements, Rice, Vegetables.

Accordingly, we are amending 7 CFR part 319 as follows:

PART 319—FOREIGN QUARANTINE NOTICES

1. The authority citation for part 319 continues to read as follows:

Authority: 7 U.S.C. 450, 7701-7772, and 7781-7786; 21 U.S.C. 136 and 136a; 7 CFR 2.22, 2.80, and 371.3.

2. In § 319.56-67, paragraph (c)(2) is revised to read as follows:

§ 319.56-67 Cape gooseberry from Colombia.

* * * * *

(c) * * *

(2) All fruit flies trapped must be reported to APHIS immediately. Capture of C. capitata will result in immediate cancellation of exports from farms within a 5 kilometer radius (78.54 square kilometers) of the detection site. An additional 50 traps must be placed within an area with a 1.26 kilometer radius (5 square kilometers) surrounding the detection site. If a second detection is made within 30 days of a previous capture, eradication using a bait spray agreed upon by APHIS and the NPPO of Colombia must be initiated in the detection area. Treatment must continue for at least 2 months. Exports may resume from the detection area when APHIS and the NPPO of Colombia agree the risk has been mitigated.

* * * * *

Done in Washington, DC, this 26th day of September 2014.
Kevin Shea,
Administrator, Animal and Plant Health Inspection Service.

[FR Doc. 2014-23402 Filed 9-30-14; 8:45 am]

BILLING CODE 3410-34-P